DEPARTMENT OF TRANSPORTATION

Federal Aviation Administration

Sixty-Fifth Meeting: RTCA Special Committee (186) Global Positioning System (GPS)

AGENCY: Federal Aviation Administration (FAA), U.S. Department of Transportation (DOT).

ACTION: Notice of Sixty-Fifth RTCA Special Committee 186 Meeting.

SUMMARY: The FAA is issuing this notice to advise the public of the Sixty-Fifth RTCA Special Committee 186 meeting.

DATES: The meeting will be held March 8-11, 2016 from 9 a.m.-1 p.m.

ADDRESSES: The meeting will be held at RTCA Inc. Conference Room, 1150 18th NW., Suite 910, Washington, DC, Tel: (202) 330-0680.

FOR FURTHER INFORMATION CONTACT: The RTCA Secretariat, 1150 18th Street NW., Suite 910, Washington, DC 20036, or by telephone at (202) 833-9339, fax at (202) 833-9434, or Web site at http://www.rtca.org or Al Secen, Program Director, RTCA, Inc., asecen@rtca.org, (202) 330-0647.

SUPPLEMENTARY INFORMATION: Pursuant to section 10(a)(2) of the Federal Advisory Committee Act (Pub. L. 92-463, 5 U.S.C., App.), notice is hereby given for a meeting of RTCA Special Committee 186. The agenda will include the following:

Tuesday, March 8, 2016

1. WG-4—Application Technical Requirements, Advanced Interval Management MOPS development NBAA Room & Colson Board Room (All Day)

Wednesday, March 9, 2016

1. WG-4—Application Technical Requirements, Advanced Interval Management MOPS development NBAA Room & Colson Board Room (All Day)

Thursday, March 10, 2016

1. WG-4—Application Technical Requirements, Advanced Interval Management MOPS development NBAA Room & Colson Board Room (All Day)

Friday, March 11, 2016

1. Plenary Session (9:00 a.m.)

a. Chairman's Introductory Remarks

b. Review of Meeting Agenda

c. Review/Approval of the Sixty-fourth Meeting Summary

d. FAA Surveillance and Broadcast Services (SBS) Program—Status

e. WG-3—Extended Squitter MOPS/SC-209 Transponder MOPS revisions

i. Status

f. WG-4—Application Technical Requirements

i. A-IM: Status

g. SC-214/WG-78 Status of final release of CPDLC messages for IM AACD and PTM

h. Wake/MET Data: SC-206 Status/Tiger Team Deliverable

i. ADS-B Implementation

i. ADS-B Equipage Update

ii. Avionics Issues Update

iii. FAA Broadcast Services (TIS-B, FIS-B, ADS-R) Issues Update

iv. Equip 2020 Status

v. AC 90-114A Change 1—Update Overview

j. Date, Place and Time of Next Meeting

k. New Business

l. Other Business

i. Status of 1090MHz Spectrum Study—Jim Baird

m. Review Action Items/Work Programs

n. Adjourn Plenary

Attendance is open to the interested public but limited to space availability. With the approval of the chairman, members of the public may present oral statements at the meeting. Plenary information will be provided upon request. Persons who wish to present statements or obtain information should contact the person listed in the FOR FURTHER INFORMATION CONTACT section. Members of the public may present a written statement to the committee at any time.

Issued in Washington, DC, on February 22, 2016.
Latasha Robinson,
Management & Program Analyst, NextGen, Enterprise Support Services Division, Federal Aviation Administration.

[FR Doc. 2016-04194 Filed 2-23-16; 4:15 pm]

BILLING CODE 4910-13-P